DEPARTMENT OF DEFENSE

Office of the Secretary

Transformation Advisory Group Meeting the U.S. Joint Forces Command

AGENCY: Department of Defense, USJFCOM.

ACTION: Notice of Closed Meeting; Transformation Advisory Group Meeting of the U.S. Joint Forces Command.

SUMMARY: The Transformation Advisory Group (TAG) will meet in a closed session on May 2-3, 2005. The mission of the TAG is to provide timely advice on scientific, technical, and policy-related issues to the Commander, U.S. Joint Forces Command as he develops DoD transformation strategy. Full development of the topics will require discussion of information classified in accordance with Executive Order 12958, dated April 17, 1995, as amended March 25, 2003. Access to this information must be strictly limited to personnel having the requisite security clearances and the specific need-to-know. Unauthorized disclosure of the information to be discussed at the TAG meetings could cause serious damage to our national defense.

The meeting will be closed for security reasons pursuant to 5 U.S.C. 552, Exemption (b)1, on protection of national security, and Exemption (b)3 regarding information protected under the Homeland Security Act of 2002, and in accordance with 41 CFR section 102-3.155.

DATES: 2-3 May 2005

ADDRESSES: USJFCOM, 1562 Mitscher Avenue, Suite 200, Norfolk, VA 23551-2488.

FOR FURTHER INFORMATION CONTACT: Stephanie Roper-Burton, Executive Director, (757) 836-0965.

FOR SUPPLEMENTARY INFORMATION: Jerome Mahar, Joint Staff, (703) 614-6465.

Dated: March 17, 2005.
Jeannette Owings-Ballard,
OSD Federal Register Liaison Officer, Department of Defense.

[FR Doc. 05-5746 Filed 3-22-05; 8:45 am]

BILLING CODE 5001-06-M